DEPARTMENT OF ENERGY

Federal Energy Regulatory Commission

[Project No. 2195-148]

Portland General Electric Company; Notice of Application Accepted for Filing, Soliciting Comments, Protests, and Motions To Intervene

Take notice that the following hydroelectric application has been filed with the Federal Energy Regulatory Commission and is available for public inspection:

a. Type of Application: Non-project use of project lands and water.

b. Project No: 2195-148.

c. Date Filed: November 7, 2016 and supplemented on March 22, 2017.

d. Applicant: Portland General Electric Company (licensee).

e. Name of Project: Clackamas River Hydroelectric Project.

f. Location: River Mill Development (Estacada Lake) of the Clackamas River Hydroelectric Project located in Clackamas County, Oregon.

g. Filed Pursuant to: Federal Power Act, 16 U.S.C. 791a-825r.

h. Applicant Contact: Thomas Nilan, Manager, Portland General Electric Company, 121 SW. Salmon Street, 3 WTC-BR05, Portland, Oregon 97204; phone (503) 464-8738.

i. FERC Contact: Robert Ballantine at 202-502-6289, robert.ballantine@ferc.gov.

j. Deadline for filing comments, protests, or motions to intervene is 30 days from the issuance of this notice by the Commission. The Commission strongly encourages electronic filing. Please file comments, protests, or motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2195-148.

k. Description of Request: Portland General Electric Company requests Commission approval to grant the Oregon Department of Fish and Wildlife (Oregon DFW) an easement to use project lands and water within the River Mill development of the Clackamas River Hydroelectric Project, for the construction and operation of a gravity fed intake system. The intake would provide water to the Oregon DFW owned Clackamas Hatchery located outside of the project boundary on Dog Creek, a tributary of the Clackamas River. The intake would provide a continuous gravity fed 50 cubic feet per second (approximately 32 million gallons per day) from Estacada Lake, to the fish hatchery. The intake system would be located within the project boundary approximately 250 feet upstream of the River Mill Dam on the south side of the forebay and consist of a dual-cylindrical intake screen, track system for deploying the intake screens into the reservoir, control building, and conveyance pipes. Project water routed to the hatchery would be returned to the Clackamas River via Dog Creek, downstream of the project.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all comments or protests filed, but only those who file a motion to intervene in accordance with the Commission's Rules may become a party to the proceeding. Any comments, protests, or motions to intervene must be received on or before the specified date for the particular application.

o. Filing and Service of Responsive Documents: Any filing must (1) bear in all capital letters the title “COMMENT”; “PROTEST”, or “MOTION TO INTERVENE” as applicable; (2) set forth in the heading the name of the applicant and the project number of the application to which the filing responds; (3) furnish the name, address, and telephone number of the person commenting, protesting or motioning to intervene; and (4) otherwise comply with the requirements of 18 CFR 385.2001 through 385.2005. All comments, protests, or motions to intervene must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: March 28, 2017.
Kimberly D. Bose,
Secretary.

[FR Doc. 2017-06468 Filed 3-31-17; 8:45 am]

BILLING CODE 6717-01-P